DEPARTMENT OF THE INTERIOR

Bureau of Land Management

[L13100000-DB0000-LXSINSSI0000-LLAK910000]

Notice of Public Meeting, North Slope Science Initiative, Science Technical Advisory Panel, Alaska

AGENCY: Bureau of Land Management, Alaska State Office, North Slope Science Initiative, Interior.

ACTION: Notice of public meeting.

SUMMARY: In accordance with the Federal Land Policy and Management Act (FLPMA) and the Federal Advisory Committee Act of 1972 (FACA), the U.S. Department of the Interior, North Slope Science Initiative (NSSI) Science Technical Advisory Panel (STAP) will meet in January 2009.

DATES: On Wednesday, January 28, 2009, the meeting will begin at 9 a.m. at the National Park Service Office, 4175 Geist Road, Fairbanks, Alaska. On Thursday, January 29, 2009, the meeting will begin at 9 a.m. at the same location, and public comment will be heard from 3 to 4 p.m. On Friday, January 30, 2009, the meeting will begin at 9 a.m. at the location above.

FOR FURTHER INFORMATION CONTACT: John F. Payne, Ph.D., Executive Director, North Slope Science Initiative (AK-910), c/o Bureau of Land Management, 222 W. 7th Avenue, #13;, Anchorage, Alaska 99513; phone 907-271-3131 or e-mail john_f_payne@blm.gov.

SUPPLEMENTARY INFORMATION: The STAP provides advice and recommendations to the North Slope Science Initiative Oversight Group on research and information priority needs across the North Slope of Alaska. These needs may include recommendations on inventory, monitoring and research activities that contribute to informed land management decisions. Discussion topics include:

• Report by STAP Chair on panel activities

• Continue identifying and defining future research challenges

• Coordinate with senior NSSI agency staff on emerging issues

• Subcommittee reports

• Other topics the STAP may raise

The meeting is open to the public and the public comment period is 3 to 4 p.m., January 29, 2009. Depending on the number of persons wishing to comment and time available, the time for individual oral comments may be limited. The public may present written comments to the STAP through the Executive Director, North Slope Science Initiative. Before including your address, phone number, e-mail address, or other personal identifying information in your comment, you should be aware that your entire comment—including your personal identifying information—may be made publicly available at any time. While you can ask us in your comment to withhold your personal identifying information from public review, we cannot guarantee that we will be able to do so. Individuals who plan to attend and need special assistance, such as sign language interpretation, transportation, or other reasonable accommodations, should contact the Executive Director, North Slope Science Initiative.

Dated: December 16, 2008.
Thomas P. Lonnie,
Alaska State Director.

[FR Doc. E8-30349 Filed 12-19-08; 8:45 am]

BILLING CODE 4310-JA-P